DEPARTMENT OF COMMERCE

International Trade Administration

[A-475-818; A-489-805; C-475-819; C-489-806]

Certain Pasta From Italy and Turkey: Continuation of Antidumping and Countervailing Duty Orders

AGENCY: Import Administration, International Trade Administration, Department of Commerce.

SUMMARY: As a result of the determinations by the Department of Commerce (the Department) that revocation of the antidumping duty (AD) orders on certain pasta from Italy and Turkey would likely lead to continuation or recurrence of dumping, that revocation of the countervailing duty (CVD) orders on certain pasta from Italy and Turkey would likely lead to continuation or recurrence of a countervailable subsidy, and the determination by the International Trade Commission (the ITC) that revocation of these AD and CVD orders would likely lead to a continuation or recurrence of material injury to an industry in the United States, the Department is publishing this notice of the continuation of these AD orders and CVD orders.

DATES: Effective September 17, 2013.

FOR FURTHER INFORMATION CONTACT: James Terpstra (AD) or Nancy Decker (CVD), AD/CVD Operations, Import Administration, International Trade Administration, U.S. Department of Commerce, 14th Street and Constitution Avenue NW., Washington, DC 20230; telephone: (202) 482-3965 or (202) 482-0196, respectively.

SUPPLEMENTARY INFORMATION:

Background

On September 4, 2012, the Department initiated and the ITC instituted sunset reviews of the AD and CVD orders on certain pasta from Italy and Turkey pursuant to sections 751(c) and 752 of the Tariff Act of 1930, as amended (the Act), respectively.¹ As a result of its reviews, the Department found that revocation of the AD orders would likely lead to continuation or recurrence of dumping and that revocation of the CVD orders would likely lead to continuation or recurrence of countervailable subsidies, and notified the ITC of the margins of dumping and the subsidy rates likely to prevail were the orders revoked.²

¹ See Notice of Initiation of Five-Year Sunset Review, 77 FR 53867 (September 4, 2012); Certain Pasta from Italy and Turkey; and Institution of Five-year Reviews Concerning the Countervailing and Antidumping Duty Orders on Certain Pasta from Italy and Turkey, 77 FR 53909 (September 4, 2012).

² See Certain Pasta From Italy and Turkey; Final Results of Expedited Third Sunset Reviews of Antidumping Duty Orders, 78 FR 2368 (January 11, 2013); Certain Pasta From Italy: Final Results of the Expedited Third Sunset Review of the Countervailing Duty Order, 78 FR 693 (January 4, 2013); and Certain Pasta From Turkey: Final Results of the Expedited Third Sunset Review of the Countervailing Duty Order, 78 FR 692 (January 4, 2013).

On September 9, 2013, the ITC published its determination, pursuant to section 751(c) of the Act, that revocation of the AD orders on certain pasta from Italy and Turkey and the CVD orders on certain pasta from Italy would likely lead to continuation or recurrence of material injury within a reasonably foreseeable time.³

³ See Certain Pasta from Italy and Turkey, 78 FR 55095 (September 9, 2013); see also Certain Pasta from Italy and Turkey (Inv. Nos. 701-TA-365-366 and 731-TA-734-735 (Third Review), USITC Publication 4423, August 2013).

Scope of the Orders

Italy (A-475-818, C-475-819)

The merchandise subject to the orders is pasta. The product is currently classified under items 1901.90.90.95 and 1902.19.20 of the Harmonized Tariff Schedule of the United States (HTSUS). Although the HTSUS numbers are provided for convenience and customs purposes, the written product description in the orders remains dispositive.⁴

⁴ See Notice of Antidumping Duty Order and Amended Final Determination of Sales at Less Than Fair Value: Certain Pasta From Italy, 61 FR 38547 (July 24, 1996); and Notice of Countervailing Duty Order and Amended Final Affirmative Countervailing Duty Determination: Certain Pasta (“Pasta”) From Italy, 61 FR 38544 (July 24, 1996). See also, Certain Pasta from Italy: Notice of Preliminary Results of Antidumping Duty Administrative Review, 77 FR 46377 (August 3, 2012) for a complete description, including the exclusions to the scope.

Turkey (A-489-805, C-489-806)

The merchandise subject to the orders is pasta. The product is currently classified under items 1902.19.20 of the HTSUS. Although the HTSUS numbers are provided for convenience and customs purposes, the written product description in the orders remains dispositive.⁵

⁵ See Notice of Antidumping Duty Order and Amended Final Determination of Sales at Less Than Fair Value: Certain Pasta From Turkey, 61 FR 38545 (July 24, 1996); see also Certain Pasta From Turkey; 2010-2011; Final Results of Antidumping Duty Administrative Review, 78 FR 9672 (February 11, 2013).

Continuation of the Orders

As a result of the determinations by the Department and the ITC that revocation of these AD and CVD orders would likely lead to continuation or recurrence of dumping or a countervailable subsidy, and of material injury to an industry in the United States, pursuant to section 751(d)(2) of the Act, the Department hereby orders the continuation of the AD and CVD orders on certain pasta from Italy and Turkey.

U.S. Customs and Border Protection will continue to collect cash deposits at the rates in effect at the time of entry for all imports of subject merchandise. The effective date of the continuation of these orders is the date of publication in the Federal Register of this notice of continuation. Pursuant to sections 751(c)(2) and 751(c)(6) of the Act, the Department intends to initiate the next five-year review of these orders not later than 30 days prior to the fifth anniversary of the effective date of the continuation.

These five-year (sunset) reviews and notice are in accordance with section 751(c) of the Act and published pursuant to sections 751(c) and 777(i)(1) of the Act, as well as 19 CFR 351.218(f)(4).

Dated: September 10, 2013.
Paul Piquado,
Assistant Secretary for Import Administration.

[FR Doc. 2013-22465 Filed 9-16-13; 8:45 am]

BILLING CODE 3510-DS-P